DEPARTMENT OF TRANSPORTATION

Federal Transit Administration

Request for Grant Proposals for an Operational Test for the Implementation of Advanced Technologies in Rural Transit Service

AGENCY: Federal Transit Administration (FTA), Department of Transportation (DOT).

ACTION: Request for grant proposals.

SUMMARY: FTA is issuing a request for grant proposals (RFP) for an operational test, which is funded at one million dollars ($1,000,000) to demonstrate and evaluate innovative approaches to integrating Advanced Public Transportation System (APTS) technologies (also referred to as Intelligent Transportation Systems (ITS) technologies for transit or Transit ITS) and available Information Technology (IT) systems. The purpose of the test is to better coordinate subsidized transportation services in rural areas among multiple transit operators. The cooperative project will require coordination among various funding agencies, such as the FTA, Department of Health and Human Services, Department of Interior, Department of Agriculture, and Department of Labor. The integration and use of APTS technologies and IT systems will enable rural transit providers to coordinate their services better and operate their transit and/or paratransit system(s) more efficiently, thus improving subsidized rural transportation services. FTA may award multiple grants for this project.

DATES: FTA will accept proposals immediately, as of September 17, 2002. Request for grant proposals may be viewed at http://www.fta.dot.gov/research/fleet/its/otrfp.html. A rolling application process will be used for this solicitation; therefore, there is no specific closing date for receipt of proposals. The solicitation will remain open until all funds for this project are obligated.

ADDRESSES: Proposals shall be addressed to Mr. Ronald Boenau, Advanced Public Transportation Systems (APTS) Division, Room 9402, TRI-11, Federal Transit Administration, U.S. Department of Transportation, 400 Seventh Street, SW., Washington, DC 20590, and shall reference “Implementation of Advanced Technologies in Rural Transit Service.”

FOR FURTHER INFORMATION CONTACT: Request for grant proposals may be viewed at: http://www.fta.dot.gov/research/fleet/its/otrfp.html. Technical questions or concerns may be directed to Mr. Ronald Boenau or Mr. William Wiggins via phone at 202-366-4995 or via e-mail at Rural.RFP@fta.dot.gov. Legal questions or concerns may be directed to Mr. James LaRusch via phone at 202-366-1936 or via e-mail at James.LaRusch@fta.dot.gov. Office hours are 8:30 a.m. to 5:00 p.m. EST, Monday, through Friday, except federal holidays.

SUPPLEMENTARY INFORMATION: FTA is seeking proposals from community groups and public and private transportation providers currently establishing, operating, coordinating, or brokering a rural transit service. Public transit agencies, state DOTs, health and human service agencies, federally recognized Indian tribes, and metropolitan planning organizations are encouraged to apply. FTA also welcomes proposals from Community Access Program (CAP) grantees. All agencies submitting proposals in response to this notice consent to be publicly identified as respondents.

Issued on: September 12, 2002.
Jennifer L. Dorn,
Administrator.

[FR Doc. 02-23620 Filed 9-16-02; 8:45 am]

BILLING CODE 4910-57-M